DEPARTMENT OF JUSTICE

Notice of Lodging of Consent Decree Under the Comprehensive Environmental Response, Compensation, and Liability Act

Notice is hereby given that on July 22, 2010, a proposed Consent Decree (“Decree”) in United States v. Champion Chemical Co., et al., Civil Action No. 96cv1521, New Jersey Department of Environmental Protection v. Champion Chemical Co., et al., Civil Action No. 99cv5238, and United States v. Imperial Oil Co., et al., Civil Action No. 07cv1486, was lodged with the United States District Court for the District of New Jersey.

The Decree resolves the following claims of the United States: (1) the United States' Motion to Enforce the Consent Decree, entered in 2001, in United States v. Champion Chemical Co., et al., Civil Action No. 96cv1521, and New Jersey Department of Environmental Protection v. Champion Chemical Co., et al., Civil Action No. 99cv5238; (2) the United States' claims in United States v. Imperial Oil Co., et al., Civil Action No. 07cv1486; and (3) the United States' claims, pursuant to the Comprehensive Environmental Response, Compensation, and Liability Act (“CERCLA”), 42 U.S.C. 9601, et seq., for recovery of response costs incurred by the United States Environmental Protection Agency (“EPA”)in connection with the Imperial Oil Company, Inc./Champion Chemical Company Superfund Site in Marlboro Township, New Jersey (“Site”). The Decree requires the settling defendants to pay approximately $1.4 million plus all proceeds from (1) the sale of the Site, and (2) the settling defendants' remaining insurance coverage to the United States to resolve the listed claims.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States v. Imperial Oil Co., et al., Civil Action No. 07cv1486 (D.N.J.), D.J. Ref. 90-11-2-946/1.

The Decree may be examined at U.S. EPA Region II, U.S. Environmental Protection Agency, 290 Broadway, New York, New York 10007. During the public comment period, the Decree may also be examined on the following Department of Justice Web site: http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $15.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-18439 Filed 7-27-10; 8:45 am]

BILLING CODE 4410-15-M